DEPARTMENT OF HEALTH AND HUMAN SERVICES

National Institutes of Health

Submission for OMB Review; Comment Request; Tobacco Use Supplement to the Current Population Survey Series: 2006-2007 Tobacco Use Supplement to the Current Population Survey

SUMMARY: Under the provisions of Section 3507(c)(2)(A) of the Paperwork Reduction Act of 1995, the National Cancer Institute (NCI), the National Institutes of Health (NIH) has submitted to the Office of Management and Budget (OMB) a request to review and approve the information collection listed below. This proposed information collection was previously published in the Federal Register on November 1, 2005, page 65906 and allowed 60 days for public comment. No public comments were received. The purpose of this notice is to allow an additional 30 days for public comments. The National Institutes of Health may not conduct or sponsor, and the respondent is not required to respond to, an information collection that has been extended, revised or implemented on or after October 1, 1995, unless it displays a currently valid OMB control number.

Proposed Collection: Title: Tobacco Use Supplement to the Current Population Survey Series: 2006-2007 Tobacco Use Supplement to the Current Population Survey.

Type of information request: Reinstatement With Change of OMB #0925-0368, Expiration 01/31/2004.

Need and Use of Information Collection: The 2006-2007 Tobacco Use Supplement to the Current Population Survey conducted by the Census Bureau will collect data from the civilian non-institutionalized population on tobacco use, smoking prevalence and attempts at cessation; workplace smoking policies; health professional advice to stop smoking; and changes in smoking norms and attitudes. This survey will provide invaluable information to government agencies and departments, other scientists and the general public necessary for tobacco control research, as well as measure progress toward tobacco control as part of the National Cancer Institute's (NCI's) Cancer Progress Report, and the Department of Health and Human Services' Healthy People 2010 Goals. It is also relevant to past reports of NCI plans for the National Investment in Cancer Research and NCI's long term strategic plan for eliminating the suffering and death due to cancer. This survey is part of a continuing series of surveys that were sponsored by NCI and fielded periodically over the 1990's by the Census Bureau as part of the American Stop Smoking Intervention Study for Cancer Prevention (ASSIST) project (OMB #0925-0368, exp. 01/31/01, 12/31/99, 03/31/97, 06/30/93) and made available for general public use. The Tobacco Use Supplements since 2001-02 have been fielded and will be continuing over the next decade alternating between a standard or core tobacco use survey (such as this 2006-2007 survey) and a special topic survey focusing on emerging tobacco control issues (such as the 2003 Tobacco Use Special Cessation Supplement). The survey will allow state specific estimates to be made. Data will be collected in May 2006, August 2006 and January 2007 from approximately 285,000 respondents. The National Cancer Institute is co-sponsoring this survey with the Centers for Disease Control and Prevention.

Frequency of Response: One-time study.

Affected Public: Individuals or households.

Type of Respondents: Persons 15 years of age or older. The annual reporting burden is presented in exhibit 1 below. The annualized cost to respondents is estimated at $177,691. There are no Capital Costs, Operating Costs, and/or Maintenance Costs to report.

Exhibit 1.—Estimates of Respondent Hour Burden
Number of respondents (number of annual respondents) | Frequency of response | Average burden hours per response | Total hour burden (total annual hour burden)
285,000 (95,000) | 1 | 0.1169 | 33,317 (11,106)

Request for Comments: Written comments and/or suggestions from the public and affected agencies are invited one or more of the following points: (1) Whether the proposed collection of information is necessary for the proper performance of the function of the agency, including whether the information will have practical utility; (2) The accuracy of the agency's estimate of the burden of the proposed collection of information, including the validity of the methodology and assumptions used; (3) Ways to enhance the quality, utility and clarity of the information to be collected; and (4) Ways to minimize the burden of the collection of information on those who are to respond, including the use of appropriate automated, electronic, mechanical, or other technological collection techniques or other forms of information technology.

Direct Comments to OMB: Written comments and/or suggestions regarding the item(s) contained in this notice, especially regarding the estimated public burden and associated response time, should be directed to: Office of Management and Budget, Office of Regulatory Affairs, New Executive Office Building, Room 10235, Washington, DC 20503. Attention: Desk Officer for NIH. To request more information on the proposed project or to obtain a copy of the data collection plans and instruments, contact Anne Hartman, M.S., M.A., Health Statistician, National Cancer Institute, 6130 Executive Blvd—MSC 7344, Executive Plaza North, Suite 4005, Bethesda, Maryland 20892-7344, or call non-toll free (301) 496-4970, or FAX your request, to (301) 435-3710, or E-mail your request, including your address, to ah42t@nih.gov or Anne_Hartman@nih.gov.

Comments Due Date: Comments regarding this information collection are best assured of having their full effect if received within 30 days of the date of this publication.

Dated: January 27, 2006.
Rachelle Ragland-Greene,
NCI Project Clearance Liaison, National Institutes of Health.

[FR Doc. E6-1499 Filed 2-2-06; 8:45 am]

BILLING CODE 4140-01-P